DEPARTMENT OF HOUSING AND URBAN DEVELOPMENT

24 CFR Part 3282

[Docket No. FR-4665-N-26]

Conference Call Meeting of the Manufactured Housing Consensus Committee

AGENCY: Office of the Assistant Secretary for Housing—Federal Housing Commissioner, HUD.

ACTION: Notice of upcoming meeting via conference call.

SUMMARY: This notice sets forth the schedule and proposed agenda of an upcoming meeting of the Manufactured Housing Consensus Committee (the Committee) to be held via telephone conference. This meeting is open to the general public, which may participate by following the instructions below.

DATES: The conference call meeting will be held on Monday, December 19, 2005, from 11 a.m. to 3 p.m. Eastern Standard Time.

ADDRESSES: Information concerning the conference call can be obtained from the Department's Consensus Committee Administering Organization, the National Fire Protection Association (NFPA). Interested parties can log onto NFPA's Web site for instructions concerning how to participate, and for contact information for the conference call: http://www.nfpa.org/categoryList.asp?categoryID=858&URL=Codes%20and%20Standards/Code%20development%20process/Technical%20Committees/Non-NFPA%20Technical%20Committees/HUD%20Manufactured%20Housing%20Consensus%20Committee%20(MHCC)&cookie%5Ftest=1.

Alternately, interested parties may contact Valaree Crawford of NFPA by phone at (617) 984-7507 (this is not a toll-free number) for conference call information.

FOR FURTHER INFORMATION CONTACT: William W. Matchneer III, Associate Deputy Assistant Secretary, Office of Regulatory Affairs and Manufactured Housing, Department of Housing and Urban Development, 451 7th Street, SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App.2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of this conference call meeting is to permit the Committee, at its request, to review and make further recommendations to the Secretary regarding proposed changes to 24 CFR 3282.401 through 3282.418 (Subpart I—Consumer Complaint Handling and Remedial Actions), and the proposed Model Manufactured Home Installation Standards. The exceptional circumstances providing less than 15 calendar days notice of the meeting are that it is necessary to have this meeting on this date, which has been proposed and agreed to by the Committee, to permit the Committee to continue its consideration and take action regarding the foregoing matters in a timely manner.

Tentative Agenda

A. Roll Call.

B. Welcome and Opening remarks.

C. Full Committee meeting and take actions on proposed changes to 24 CFR part 3282, subpart I, and the proposed Model Manufactured Home Installation Standards.

D. Adjournment.

Dated: December 8, 2005.
Brian D. Montomery,
Assistant Secretary for Housing—Federal Housing Commissioner.

[FR Doc. 05-24044 Filed 12-9-05; 4:14 pm]

BILLING CODE 4210-27-P